DEPARTMENT OF THE INTERIOR

Bureau of Land Management

[UT-030-02-1610-DE-24-1A]

Grand Staircase-Escalante National Monument Advisory Committee; Notice of Intent To Establish and Call for Nominations

AGENCY: Bureau of Land Management (BLM), Grand Staircase-Escalante National Monument, Kanab, Utah.

ACTION: Notice of intent to establish and call for nominations for the Grand Staircase-Escalante National Monument Advisory Committee under the provisions of the Approved Management Plan for the Grand Staircase-Escalante National Monument (February 2000).

SUMMARY: BLM is publishing this notice under Section 9(a)(2) of the Federal Advisory Committee Act. Pursuant to the Approved Management Plan for the Grand Staircase-Escalante National Monument (February 2000), BLM gives notice that the Secretary of the Interior intends to establish the Grand Staircase-Escalante National Monument Advisory Committee (Committee). The notice requests the public to submit nominations for membership on the Committee. The Committee is necessary to advise the Secretary and BLM on resource management issues associated with the Grand Staircase-Escalante National Monument.

DATES: Submit a completed nomination form and nomination letters to the address listed below no later than August 1, 2002.

ADDRESSES: Send nominations to: Monument Manager, Grand Staircase-Escalante National Monument, Bureau of Land Management, 190 E. Center St., Kanab, Utah 84741.

FOR FURTHER INFORMATION CONTACT: David Hunsaker, Acting Monument Manager, (435) 644-4300, or the following web site www.ut.blm.gov/monument.

SUPPLEMENTARY INFORMATION: Any individual or organization may nominate one or more persons to serve on the Grand Staircase-Escalante National Monument Advisory Committee. Individuals may nominate themselves for Committee membership. You may obtain nomination forms from the Grand Staircase-Escalante National Monument Office or download the application from the Internet site (see ADDRESSES and FOR FURTHER INFORMATION CONTACT, above). To make a nomination, you must submit a completed nomination form, letters of reference from the represented interests or organizations, as well as any other information that speaks to the nominee's qualifications, to the Grand Staircase-Escalante National Monument. You may make nominations for the following categories of interest:

(1) A member with expertise in archaeology, to represent the archaeological community;

(2) A member with expertise in paleontology, to represent the paleontological community;

(3) A member with expertise in geology, to represent the geological community;

(4) A member with expertise in botany, to represent the botanical community;

(5) A member with expertise in wildlife biology, to represent the wildlife biological community;

(6) A member with expertise in history, to represent the historical community;

(7) A member with expertise in social science, to represent the social science community;

(8) A member with expertise in systems ecology, to represent the systems ecology community;

(9) An elected official from Garfield County, to represent the interests of county residents;

(10) An elected official from Kane County, to represent the interests of county residents;

(11) A representative of State or tribal government;

(12) An educator, to represent the educational community;

(13) A representative of the environmental community;

(14) An outfitter and guide operating within the Monument, to represent commercial recreation activities in the Monument;

(15) A livestock grazing permittee operating within the Monument, to represent grazing interests.

The specific category the nominee would be representing should be identified in the letter of nomination and in the nomination form. The State Director, BLM Utah, and Monument Manager will review the nomination forms and letters of reference. The State Director shall confer with the Governor of the State of Utah on potential nominations. The Director, Bureau of Land Management will then forward recommended nominations to the Secretary of the Interior who has responsibility for making the appointments.

The purpose of the Grand Staircase-Escalante National Monument Advisory Committee is to advise the Bureau of Land Management on the management of the Grand Staircase-Escalante National Monument. Each member will be a person who, as a result of training and experience, has knowledge or special expertise which qualifies him or her to provide advice from among the categories of interest listed above.

Members will serve without monetary compensation, but will be reimbursed for travel and per diem expenses at current rates for Government employees. The Committee will meet at least twice a year. Additional meetings may be called by the Designated Federal Official.

Dated: June 3, 2002.
Sally Wisely,
Utah State Director.

[FR Doc. 02-16578 Filed 7-1-02; 8:45 am]

BILLING CODE 4310-84-P